DEPARTMENT OF DEFENSE

Department of the Army

Availability for Non-Exclusive, Exclusive, or Partially Exclusive Licensing of U.S. Patent Concerning Radar Beam Steering With Remote Reflectory/Refraction

AGENCY: Department of the Army, DoD.

ACTION: Notice.

SUMMARY: In accordance with 37 CFR 404.6 and 404.7, announcement is made of the availability for licensing of the invention set forth in U.S. Patent No. 6,914,554 entitled “Radar Beam Steering with Remote Reflectory/Refraction,” issued on July 5, 2005. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil, (256) 955-3213 or Ms. Susan D. McRae, Office of Research and Technology Applications, e-mail: susan.mcrae@smdc.army.mil; (256) 955-1501.

SUPPLEMENTARY INFORMATION: The invention pertains to detecting reflected energy and, more particularly, to radar and ladar systems with enhanced range. A reflected energy detecting device includes a transmitter for transmitting an electromagnetic signal and a receiver for receiving a reflected electromagnetic signal. An antenna connected with the transmitter and the receiver radiates the electromagnetic signal and captures the reflected electromagnetic signal. The antenna may be movable. A main controller controls operation of the transmitter and the receiver and the movement of the antenna. The reflected energy detecting device may further include at least one platform to support a remote reflector that is dimensioned and configured to redirect the transmitted electromagnetic signal in a desired direction, and a platform controller that communicates with the main controller and maintains alignment between the remote reflector and the antenna.

Brenda S. Bowen,
Army Federal Register Liaison Officer.

[FR Doc. 07-4276 Filed 8-30-07; 8:45 am]

BILLING CODE 3710-08-M